DEPARTMENT OF HEALTH AND HUMAN SERVICES

Centers for Disease Control and Prevention

[30Day-14-0728]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

National Notifiable Disease Surveillance System (NNDSS) [0920-0728, Exp, Jan 31, 2014]—Revision—Center for Surveillance, Epidemiology, and Laboratory Services (CSELS), Division of Health Informatics and Surveillance (DHIS), Centers for Disease Control and Prevention (CDC).

Background and Brief Description: The Public Health Services Act (42 U.S.C. 241) authorizes CDC to disseminate nationally notifiable condition information. The Nationally Notifiable Disease Surveillance System (NNDSS) is based on data collected at the state, territorial and local levels as a result of legislation and regulations in those jurisdictions that require health care providers, medical laboratories, and other entities to submit health-related data on reportable conditions to public health departments. These reportable conditions, which include infectious and non-infectious diseases, vary by jurisdiction depending upon each jurisdiction's health priorities and needs. Currently approximately 300 conditions are reportable in one or more of the states. Since infectious disease agents and environmental hazards often cross geographical boundaries, public health departments have to be able to share data on certain conditions across jurisdictions and coordinate program activities to prevent and control the conditions. Each year, the Council of State and Territorial Disease Epidemiologists (CSTE), supported by CDC, performs an assessment of conditions reported to state, territorial and local jurisdictions to determine which should be designated nationally notifiable conditions. For conditions that are nationally notifiable, case notifications are voluntarily submitted to CDC so that information can be shared across jurisdictional boundaries and both surveillance and prevention and control activities can be coordinated at regional and national levels.

CDC requests a three year approval for a Revision of the National Notifiable Diseases Surveillance System (NNDSS) information collection, [National Electronic Disease Surveillance System (NEDSS, OMB Control No. 0920-0728, Expiration Date 01/31/2014]. This request has been developed in coordination with four other CDC applications to OMB for nationally notifiable diseases case notification: Control Numbers 0920-0128, (Congenital Syphilis Surveillance), 0920-0819 (Nationally Notifiable Sexually Transmitted Disease (STD) Morbidity Surveillance) 0920-0009 (National Disease Surveillance Program—I. Case Reports) and 0920-0004 (National Disease Surveillance Program—II. Disease Summaries). This consolidation of information collection 0920-0128 and some parts of information collections 0920-0819, 0920-0009 and 0920-0004, is an important step in implementing CDC's longer term strategy of developing a more coordinated and integrated infectious diseases surveillance system that reduces overlap and duplication; increases interoperability, integration and efficiency; and thereby reduces burden to state, territorial and local health departments that report infectious disease data to CDC. Due to the coordination, this NNDSS application includes 11 conditions and many additional data elements for the case notifications that were not previously included in NNDSS OMB application Control No. 0920-0728. For many conditions submitted to CDC, participating public health departments also submit data elements which are specific to each condition. With the coordination with other CDC programs conducting surveillance on notifiable conditions, this application includes disease-specific tables for 68 diseases. The 2010 NNDSS OMB application included disease-specific data elements for only 14 of those conditions.

Because this information collection request includes case notifications that were not part of the 2010 NNDSS/NEDSS application, replaces one application and replaces parts of three other OMB applications, burden estimates have been adjusted to incorporate burden estimates from the other four applications. The estimates are adjusted for the increased number of conditions reported to NNDSS, the expansion of core data elements, and the inclusion of more disease-specific tables. These changes have increased the burden estimates in this application in comparison with the burden estimates in the 2010 NNDSS/NEDSS OMB application (OMB Control No. 0920-0728). As CDC works with state, territorial and local health departments to develop and implement new information technologies to submit these data through NNDSS, burden will also increase as the public health departments commit resources to implementing the new technologies. However, over the next 3 years, as the new automated electronic systems are implemented, burden will be decreased. There are no costs to respondents other than their time. The estimated annual burden is 28,340 hours.

Estimates of Annualized Burden Hours
Respondents | Number of respondents | Number of responses per respondent | Average burden per response (in hours)
States | 50 | 52 | 10
Territories | 5 | 52 | 5
Cities | 2 | 52 | 10

LeRoy A. Richardson,
Chief, Information Collection Review Office, Office of Scientific Integrity, Office of the Associate Director for Science, Office of the Director, Centers for Disease Control and Prevention.

[FR Doc. 2013-27447 Filed 11-15-13; 8:45 am]

BILLING CODE 4163-18-P